DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the names of one or more persons that have been placed on OFAC's Specially Designated Nationals and Blocked Persons List (SDN List) based on OFAC's determination that one or more applicable legal criteria were satisfied. All property and interests in property subject to U.S. jurisdiction of these persons are blocked, and U.S. persons are generally prohibited from engaging in transactions with them. Additionally, OFAC is publishing the name of persons whose property and interests in property have been unblocked or whose identifying information currently included on the SDN List has been updated.

DATES: See SUPPLEMENTARY INFORMATION section for applicable date(s).

FOR FURTHER INFORMATION CONTACT: OFAC: Andrea Gacki, Director, tel.: 202-622-2490; Associate Director for Global Targeting, tel.: 202-622-2420; Assistant Director for Licensing, tel.: 202-622-2480; Assistant Director for Regulatory Affairs, tel.: 202-622-4855; or the Assistant Director for Sanctions Compliance & Evaluation, tel.: 202-622-2490.

SUPPLEMENTARY INFORMATION:

Electronic Availability

The Specially Designated Nationals and Blocked Persons List and additional information concerning OFAC sanctions programs are available on OFAC's website (www.treasury.gov/ofac).

Notice of OFAC Actions

On December 12, 2022, OFAC determined that the property and interests in property subject to U.S. jurisdiction of the following persons are blocked under the relevant sanctions authorities listed below.

Individuals

1. CHIMUKA, Obey, 25 Northolt Bluffhill, Harare, Zimbabwe; DOB 15 Jan 1975; POB Makoni, Zimbabwe; nationality Zimbabwe; citizen Zimbabwe; Gender Male; Passport EN899508 (Zimbabwe) expires 15 Mar 2026; National ID No. 58158115R42 (Zimbabwe) (individual) [ZIMBABWE] (Linked To: TAGWIREI, Kudakwashe Regimond; Linked To: FOSSIL AGRO; Linked To: FOSSIL CONTRACTING).

Designated pursuant to section 1(a)(viii) of E.O. 13469 for having acted or purported to act for or on behalf of, directly or indirectly, Kudakwashe Regimond Tagwirei, Fossil Agro and Fossil Contracting, persons whose property and interests in property are blocked pursuant to E.O. 13469.

2. MAGWIZI, Nqobile, Unwinsdale Dr., Corner Luna Road, Plot 134, Harare, Zimbabwe; DOB 22 Jan 1979; POB Gokwe, Zimbabwe; nationality Zimbabwe; citizen Zimbabwe; Gender Male; Passport FN557746 (Zimbabwe) expires 19 Feb 2028; National ID No. 6310449T26 (Zimbabwe); Project Coordinator Sakunda Holdings (individual) [ZIMBABWE] (Linked To: SAKUNDA HOLDINGS).

Designated pursuant to section 1(a)(viii) of E.O. 13469 for having acted or purported to act for or on behalf of, directly or indirectly, Sakunda Holdings, a person whose property and interests in property are blocked pursuant to E.O. 13469.

3. MNANGAGWA, JR., Emmerson Dambudzo, 41 Dacomb Drive, Chisipite, Harare, Zimbabwe; DOB 20 Dec 1984; POB Harare, Zimbabwe; nationality Zimbabwe; citizen Zimbabwe; Gender Male; Passport AD005865 (Zimbabwe) expires 25 Feb 2023; National ID No. 632149596A67 (Zimbabwe) (individual) [ZIMBABWE] (Linked To: MNANGAGWA, Emmerson Dambudzo).

Designated pursuant to section 1(a)(ii)(C) of E.O. 13391, for being an immediate family member of Emmerson Mnangagwa, person whose property and interests in property are blocked pursuant to this order.

4. MPUNGA, Sandra, 4 Luna Road, Borrowdale, Harare, Zimbabwe; DOB 19 Nov 1971; POB Mutasa, Zimbabwe; nationality Zimbabwe; citizen Zimbabwe; Gender Female; Passport DN056388 (Zimbabwe) expires 16 Oct 2022; National ID No. 63846615T50 (Zimbabwe) (individual) [ZIMBABWE] (Linked To: TAGWIREI, Kudakwashe Regimond).

Designated pursuant to section 1(a)(vi) of E.O. 13469 for being the spouse of Kudakwashe Regimond Tagwirei, a person whose property and interests in property are blocked pursuant to E.O. 13469.

Entities

1. FOSSIL AGRO (a.k.a. FOSSIL AGRO (PRIVATE) LIMITED), 42 McChlery Avenue, Eastlea, Harare, Zimbabwe; 521 Access Road, Msasa Industrial Area, Harare, Zimbabwe; website https://fossilagro.com/; Organization Type: Post-harvest crop activities [ZIMBABWE].

Designated pursuant to section 1(a)(vii) of E.O. 13469 for having materially assisted, sponsored, or provided financial, material, logistical, or technical support for, or goods or services in support of, the Government of Zimbabwe.

2. FOSSIL CONTRACTING, 5 Loreley Crescent, Harare, Zimbabwe; 5 Loreley Close, Beverly, Msasa, Harare, Zimbabwe; website https://www.fossilcontracting.org/; Organization Established Date 01 Jan 2010; Organization Type: Construction of other civil engineering projects; Business Number 200114146 (Zimbabwe); Registration Number 5268/2011 (Zimbabwe) [ZIMBABWE].

Designated pursuant to section 1(a)(vii) of E.O. 13469 for having materially assisted, sponsored, or provided financial, material, logistical, or technical support for, or goods or services in support of, the Government of Zimbabwe.

On December 12, 2022, OFAC determined that determined that the following persons should be removed from the SDN List under the relevant sanctions authority listed below and that the property and interests in property subject to U.S. jurisdiction of the following persons are unblocked.

Individuals

1. BUKA, Flora; DOB 25 Feb 1968; Minister of State for Special Affairs, Land and Resettlement Program (individual) [ZIMBABWE].

Pursuant to Sec. 6 of E.O. 13288 as amended by E.O. 13391, circumstances no longer warrant the inclusion of a person in the Annex to this order and that the property or interests in property of that person are therefore no longer blocked pursuant to section 1(a) of E.O. 13288.

2. CHAPFIKA, David; DOB 07 Apr 1957; Passport ZL037165 (Zimbabwe); Deputy Minister of Finance (individual) [ZIMBABWE].

Pursuant to Sec. 6 of E.O. 13288 as amended by E.O. 13391, circumstances no longer warrant the inclusion of a person in the Annex to this order and that the property or interests in property of that person are therefore no longer blocked pursuant to section 1(a) of E.O. 13288.

3. CHIHOTA, Phineas; DOB 23 Nov 1950; Deputy Minister of Industry and International Trade (individual) [ZIMBABWE].

Pursuant to Sec. 6 of E.O. 13288 as amended by E.O. 13391, circumstances no longer warrant the inclusion of a person in the Annex to this order and that the property or interests in property of that person are therefore no longer blocked pursuant to section 1(a) of E.O. 13288.

4. CHIMUTENGWENDE, Chenhamo Chakezha Chen; DOB 28 Aug 1943; Passport ZD001423 (Zimbabwe); alt. Passport AN288614 (Zimbabwe); Minister of State for Public and Interactive Affairs (individual) [ZIMBABWE].

Pursuant to Sec. 6 of E.O. 13288 as amended by E.O. 13391, circumstances no longer warrant the inclusion of a person in the Annex to this order and that the property or interests in property of that person are therefore no longer blocked pursuant to section 1(a) of E.O. 13288.

5. CHINAMASA, Gamuchirai, 2 Honeybear Lane, Borrowdale, Zimbabwe; DOB 11 Nov 1991; Passport AN634603 (Zimbabwe); Child of Patrick Chinamasa (individual) [ZIMBABWE].

Pursuant to Sec. 6 of E.O. 13288 as amended by E.O. 13391, circumstances no longer warrant the inclusion of a person in the Annex to this order and that the property or interests in property of that person are therefore no longer blocked pursuant to section 1(a) of E.O. 13288.

6. CHOMBO, Ignatius Morgan; DOB 01 Aug 1952; Passport AD000500 (Zimbabwe); Minister of Local Government, Public Works and National Housing (individual) [ZIMBABWE].

Pursuant to Sec. 6 of E.O. 13288 as amended by E.O. 13391, circumstances no longer warrant the inclusion of a person in the Annex to this order and that the property or interests in property of that person are therefore no longer blocked pursuant to section 1(a) of E.O. 13288.

7. DAMASANE, Abigail; DOB 27 May 1952; Deputy Minister for Women's Affairs, Gender and Community Development (individual) [ZIMBABWE].

Pursuant to Sec. 6 of E.O. 13288 as amended by E.O. 13391, circumstances no longer warrant the inclusion of a person in the Annex to this order and that the property or interests in property of that person are therefore no longer blocked pursuant to section 1(a) of E.O. 13288.

8. GOCHE, Nicholas Tasunungurwa; DOB 01 Aug 1946; Minister of Public Works, Labour and Social Welfare (individual) [ZIMBABWE].

Pursuant to Sec. 6 of E.O. 13288 as amended by E.O. 13391, circumstances no longer warrant the inclusion of a person in the Annex to this order and that the property or interests in property of that person are therefore no longer blocked pursuant to section 1(a) of E.O. 13288.

9. GONO, Hellin Mushanyuri; DOB 06 May 1962; Passport AN548299 (Zimbabwe); Spouse of Gideon Gono (individual) [ZIMBABWE].

Pursuant to Sec. 6 of E.O. 13288 as amended by E.O. 13391, circumstances no longer warrant the inclusion of a person in the Annex to this order and that the property or interests in property of that person are therefore no longer blocked pursuant to section 1(a) of E.O. 13288.

10. GUMBO, Aleck Rugare Ngidi, Montrolse Farm, PO Box 1175, Gweru, Zimbabwe; DOB 08 Mar 1940; Minister of Economic Development (individual) [ZIMBABWE].

Pursuant to Sec. 6 of E.O. 13288 as amended by E.O. 13391, circumstances no longer warrant the inclusion of a person in the Annex to this order and that the property or interests in property of that person are therefore no longer blocked pursuant to section 1(a) of E.O. 13288.

11. LANGA, Andrew; DOB 13 Jan 1965; Deputy Minister of Environment and Tourism (individual) [ZIMBABWE].

Pursuant to Sec. 6 of E.O. 13288 as amended by E.O. 13391, circumstances no longer warrant the inclusion of a person in the Annex to this order and that the property or interests in property of that person are therefore no longer blocked pursuant to section 1(a) of E.O. 13288.

12. MACHAYA, Jaison Max Kokerai; DOB 13 Jun 1952; Member of Parliament for Gokwe Kana (individual) [ZIMBABWE].

Pursuant to Sec. 6 of E.O. 13288 as amended by E.O. 13391, circumstances no longer warrant the inclusion of a person in the Annex to this order and that the property or interests in property of that person are therefore no longer blocked pursuant to section 1(a) of E.O. 13288.

13. MARUMAHOKO, Rueben, 11 Douglas Clark Avenue, The Grange, Harare, Zimbabwe; DOB 04 Apr 1948; Deputy Minister for Home Affairs (individual) [ZIMBABWE].

Pursuant to Sec. 6 of E.O. 13288 as amended by E.O. 13391, circumstances no longer warrant the inclusion of a person in the Annex to this order and that the property or interests in property of that person are therefore no longer blocked pursuant to section 1(a) of E.O. 13288.

14. MURERWA, Herbert Muchemwa; DOB 31 Jul 1941; Passport AD001167 (Zimbabwe); Minister of Finance (individual) [ZIMBABWE].

Pursuant to Sec. 6 of E.O. 13288 as amended by E.O. 13391, circumstances no longer warrant the inclusion of a person in the Annex to this order and that the property or interests in property of that person are therefore no longer blocked pursuant to section 1(a) of E.O. 13288.

15. MURERWA, Ruth Chipo, 321 Ard-Na-Lea Close, Glen Lorne, Chisipite, Zimbabwe; DOB 27 Jul 1947; Passport AD001244 (Zimbabwe) expires 19 Aug 2009; Spouse of Herbert Murerwa (individual) [ZIMBABWE].

Pursuant to Sec. 6 of E.O. 13288 as amended by E.O. 13391, circumstances no longer warrant the inclusion of a person in the Annex to this order and that the property or interests in property of that person are therefore no longer blocked pursuant to section 1(a) of E.O. 13288.

16. MUTIWEKUZIVA, Kenneth Keparadza; DOB 27 May 1948; Deputy Minister for Small and Medium Enterprise Development (individual) [ZIMBABWE].

Pursuant to Sec. 6 of E.O. 13288 as amended by E.O. 13391, circumstances no longer warrant the inclusion of a person in the Annex to this order and that the property or interests in property of that person are therefore no longer blocked pursuant to section 1(a) of E.O. 13288.

17. SIBANDA, Levy; Deputy Police Commissioner (individual) [ZIMBABWE].

Pursuant to Sec. 6 of E.O. 13288 as amended by E.O. 13391, circumstances no longer warrant the inclusion of a person in the Annex to this order and that the property or interests in property of that person are therefore no longer blocked pursuant to section 1(a) of E.O. 13288.

Dated: December 12, 2022.
Andrea M. Gacki,
Director, Office of Foreign Assets Control, U.S. Department of the Treasury.

[FR Doc. 2022-27315 Filed 12-15-22; 8:45 am]

BILLING CODE 4810-AL-P